DEPARTMENT OF COMMERCE

Census Bureau

Proposed Information Collection; 2002 Census of Governments—Government Finance Phase

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 14, 2001.

ADDRESSES: Direct all written comments to Madeleine Clayton, Departmental Paperwork Clearance Officer, Department of Commerce, Room 6086, 14th and Constitution Avenue, NW., Washington, DC 20230 (or via the Internet at MClayton@doc.gov).

FOR FURTHER INFORMATION CONTACT: Requests for additional information or copies of the information collection instrument(s) and instructions should be directed to Stephen Poyta, Chief, Census Management Staff, Governments Division, U.S. Census Bureau, Washington, DC 20233-6800 (301 457-1580).

SUPPLEMENTARY INFORMATION:

I. Abstract

Title 13, Section 161, of the United States Code authorizes the Secretary of Commerce to conduct a Census of Governments every 5 years. The 2002 Census of Governments includes 3 phases—Organization, Employment and Finance. For the Finance phase, these authorizations include, but are not limited to, collecting and disseminating data on taxes, governmental receipts (revenues), expenditures by function and character, indebtedness, cash and security holdings, and insurance trust systems.

The state and local government statistics produced cover national, state, local, and type-of-government aggregates on various financial transactions. They are aggregated by size-groups, and contain comparative detail for individual governments for the fiscal year ending periods between July 1, 2001 and June 30, 2002. Findings are produced as data files in both electronic and printed formats. The finance survey provides the only comprehensive accounting of financial activity in state and local governments. Comparable programs have made possible the dissemination of similar governmental statistics since 1902.

The Census Bureau provides these governmental finance data to the Bureau of Economic Analysis (BEA) for use in determining the Gross Domestic Product. Discontinuing this finance program would create a large gap in public sector economic statistics by: eliminating the Census of Governments results; nullifying the development of related sample-based annual governmental finance statistics; and making it impossible for the BEA to calculate the government sector of the national income and product accounts.

The many users of these Census of Governments data include Federal agencies, State and local governments and related organizations, public interest groups, the academic community, and many business, market, and private research organizations.

II. Method of Collection

Each of the 90,000 county governments, consolidated city-county governments, independent cities, towns, townships, special district governments, and public school systems designated for the census will be sent an appropriate form or the data will be collected through a data sharing arrangement between Census and the state government. State governments, as well as 50 of the largest local governments, are manually compiled by office staff from basic source information.

The Census Bureau has concluded a wide variety of cooperative data collection and data sharing arrangements with offices in many states. These arrangements include: (1) Making use of state mandated reports on local government finances; (2) assisting states in establishing statewide uniform local government financial and employment reporting systems; (3) sharing Census Bureau collected and processed data with state officials; and (4) assisting in the development of state government automated reporting systems. These arrangements involve a variety of methodologies and technologies. In some cases, the data are shared by the state submitting state collected data in a variety of electronic formats. In other instances, the Census Bureau supplies data to the state in electronic formats. The Census Bureau also receives files from respondents and sends data to customers over the Internet.

In the Finance Phase, the Census Bureau has established different cooperative data collection arrangements in 29 states for general purpose and special district governments, and 49 states for school systems. We are in the process of expanding the conversion of paper submissions into electronic formats, with a concentration on the largest governments. The finance central collection program has resulted in eliminating direct mail canvassing for approximately 1,100 counties, 25,000 municipalities and townships, 8,000 special districts, and 16,000 local school systems.

III. Data

OMB Number: None.

Form Number: F-L1, F-11, F-12, F-13, F-21, F-22, F25, F-28, F-29, F-32, F-33L, F-42.

Type of Review: Regular.

Affected Public: State governments, county governments, consolidated city-county governments, independent cities, towns, townships, special district governments, and public school systems.

Estimated Number of Respondents: 51,534.

Estimated Time Per Response: 2.27 hours.

Estimated Total Annual Burden Hours: 116,982.

Estimated Total Annual Cost: $ 1,923,350.45.

Note: Based upon the average hourly pay for full-time equivalent employment for the financial administration function within the latest annual survey of state and local government employment.)

Respondent's Obligation: Voluntary.

Legal Authority: Title 13 United States Code, Section 161.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 10, 2001.
Madeleine Clayton,
Departmental Paperwork Clearance Officer, Office of the Chief Information Officer.

[FR Doc. 01-17637 Filed 7-13-01; 8:45 am]

BILLING CODE 3510-07-P